DEPARTMENT OF COMMERCE

National Oceanic and Atmospheric Administration

Docket No. [000202023-0023-01; I.D. No. 011000B]

RIN 0648-ZA78

Announcement of Opportunity to submit proposals for the Coastal Ecosystem Research Project in the Northern Gulf of Mexico

AGENCY: Center for Sponsored Coastal Ocean Research/Coastal Ocean Program (CSCOR/COP), National Ocean Service (NOS), National Oceanic and Atmospheric Administration (NOAA), Commerce.

ACTION: Announcement of Funding Opportunity for financial assistance for project grants and cooperative agreements.

SUMMARY: The purpose of this document is to advise the public that NOAA/NOS/CSCOR/COP is soliciting proposals from 1 to 3 years in duration for monitoring studies, particularly of the hypoxic zone, and for retrospective and modeling studies in the Northern Gulf of Mexico (N-GOMEX). It is anticipated that projects funded under this announcement will have a July 1, 2000, start date.

This notice solicits applications for research projects from eligible non-Federal and Federal applicants. In an effort to maximize the use of limited resources, applications from non-Federal, non-NOAA Federal and NOAA applicants will be competed against each other. Research proposals selected for funding from non-Federal researchers will be funded through a project grant. Research proposals selected for funding from non-NOAA Federal applicants will be funded through an interagency transfer provided legal authority exists for the federal applicant to receive funds from another agency. Research proposals selected for funding from NOAA will be funded through NOAA.

DATES: The deadline for receipt of proposals at the COP office is 3:00 pm, EST, April 21, 2000.

ADDRESSES: Submit the original and 10 copies of your proposal to Coastal Ocean Program Office (N-GOMEX 2000), SSMC#3, 9th Floor, Station 9700, 1315 East-West Highway, Silver Spring, MD 20910. NOAA Standard Form Applications with instructions are accessible on the following COP Internet Site: http://www.cop.noaa.gov under the COP Grants Support Section, Part D, Application Forms for Initial Proposal Submission. If you are unable to access this information, you may call COP at 301-713-3338 to leave a mailing request.

FOR FURTHER INFORMATION CONTACT: Technical Information: Kenric Osgood, N-GOMEX 2000 Program Manager, COP Office, 301-713-3338/ext 130, Internet: Kenric.Osgood@noaa.gov; Business Management Information: Leslie McDonald, COP Grants Administrator, 301-713-3338/ext 137, Internet: Leslie.McDonald@noaa.gov. The following web sites furnish results of studies concerning the periodic hypoxia associated with the northern Gulf of Mexico referred to later in this Document under SUPPLEMENTARY INFORMATION: http://www.aoml.noaa.gov/ocd/necop/ and http://www.nos.noaa.gov/Products/pubs_hypox.html.

A report of the workshop, U.S. GLOBEC report No. 19, is available from the following address or homepage: U.S. GLOBEC Coordinating Office, UMCES, Chesapeake Biological Laboratory, P.O. Box 38, Solomons, MD 20688; Phone: 410-326-7370; Fax: 410-326-7341; Internet: fogarty@usglobec.org and http://www.usglobec.org. This report is referenced later in this Document under SUPPLEMENTARY INFORMATION.

SUPPLEMENTARY INFORMATION:

Background

Program Description

For complete Program Description and Other Requirements criteria for the Coastal Ocean Program, see COP's General Grant Administration Terms and Conditions annual document in the Federal Register (64 FR 49162, September 10, 1999) and at the COP home page.

Coastal regions dominated by large rivers are disproportionately important to the biological production of the world's oceans, primarily because these rivers carry large amounts of “new” nitrogen. An important river-dominated coastal ecosystem in the U.S. is the Mississippi River, which supports high primary and secondary production in the Gulf of Mexico. Approximately 20 percent of the U.S. commercial fishery landings by dollar value are from the northern Gulf. Major recreational fisheries also exist in this region.

There is a strong relationship between riverine inputs (especially nutrients) and primary production, followed in turn by zooplankton production and fish production in a classic Nutrient-Phytoplankton-Zooplankton-Fish food web. Anthropogenic nitrogen loadings from the Mississippi River to the Gulf of Mexico have increased dramatically during the past several decades, which has led to changes in the ecosystem of the northern Gulf, including (1) the annual development of an extensive zone of bottom water hypoxia during the summer stratified period; (2) a probable increase in overall biological production; and (3) an apparent shift from a balanced pelagic/demersal fish community to one significantly more dominated by pelagic fisheries.

Several past and present programs have studied the periodic hypoxia associated with the northern Gulf of Mexico. Notably, from 1990 to 1997, the Coastal Ocean Program supported a study on Nutrient Enhanced Coastal Ocean Productivity; and the Committee on Environment and Natural Resources recently completed an integrated assessment of Gulf of Mexico hypoxia. Results of those studies can be found on the web sites listed earlier in this Document under FURTHER INFORMATION:

A workshop was held in January 1999 to discuss relationships between the Mississippi River, the production of marine populations, and ecosystem parameters in the Gulf of Mexico; and to discuss how these relationships might be affected by changes in weather and climate. A report of the workshop, U.S. GLOBEC report No. 19, is available from the address or homepage shown earlier in this Document under FURTHER INFORMATION.

This solicitation for proposals will begin a program to examine the inter-relationships driving the Mississippi River-dominated Gulf of Mexico ecosystem. The planned suite of studies will enable improved predictions about future effects of nutrient loading, eutrophication, hypoxia, and climate change on the Gulf of Mexico ecosystem. The currently requested proposals should focus on monitoring the spatial and temporal changes in the distribution of the hypoxic zone in the northern Gulf of Mexico. A secondary priority for this announcement is the effects of hypoxia on the distribution and abundance of fishery species, and the species upon which they depend.

Structure of the Research Program

The NOAA Coastal Ocean Program intends to support an initial research program comprising monitoring and possibly, retrospective analyses and modeling. Subsequent announcements may solicit further proposals in these areas and for process field studies in the region, depending on the outcome of the proposed research solicited here, and the levels of future appropriated funding.

Monitoring studies could include shipboard surveys, multi-disciplinary mooring observations, drifters, and analysis of regional satellite data. Highest priority monitoring activities for this announcement are monitoring the magnitude and extent of the hypoxic zone in the northern Gulf of Mexico in space and time. Monitoring activities with lower priorities for this announcement include monitoring the distribution and abundance of nutrient-stimulated phytoplankton, zooplankton and fishery populations and their relation to eutrophication, hypoxia, and Mississippi River plume dynamics.

Retrospective analyses are a secondary priority for this initial announcement. Retrospective analyses should be used to provide quantitative and detailed information on issues relevant to the objectives listed above, but not already completed, in the recent CENR report. Examples include retrospective analyses of biological data concerning key animal populations; retrospective analyses of meteorological and physical oceanographic controls on plume distribution; retrospective analyses of the coupling between transport and population dynamics of key species; and retrospective analyses of coupling between climate, drainage basin, and shelf oceanography.

Modeling studies are a tertiary priority for this initial announcement. Modeling activities will be used to guide further program development and identify important processes for the extensive fieldwork anticipated to follow this preliminary phase. For example, models of NPZF and trophic responses to varying nutrient inputs, including organic flux to the bottom; models of water column stability, oxygen demand in bottom waters, and hypoxia; and physical-biological coupled models of transport and population dynamics of key zooplankton and fishery populations.

In order to fully develop predictive capability, a more intensive 5-7 year program is being planned for when additional funding becomes available. This complete program will include monitoring, retrospective studies, modeling and process field studies to identify relationships among ecosystem constituents. The process studies will be nested within monitoring efforts which identify and measure important ecosystem components, and retrospective and modeling efforts which will place the field measurements into broader temporal and theoretical context. The overall goal of the entire program is to understand and ultimately predict how changes in climate, nutrient loading and hypoxia will affect populations of marine animal species in the northern Gulf of Mexico. The projects conducted as a result of this solicitation for proposals will help guide the development of the more complete program.

Part I: Schedule and Proposal Submission

The provisions for proposal preparation provided here are mandatory. Proposals received after the published deadline or proposals that deviate from the prescribed format will be returned to the sender without further consideration. This announcement, additional background information, and proposal preparation instructions will be made available on the COP home page (http://www.cop.noaa.gov).

Full Proposals

Applications submitted in response to this announcement require an original proposal and 10 proposal copies at time of submission. This includes color or high-resolution graphics, unusually-sized materials (not 8.5″ × 11″ or 21.6 cm x 28 cm), or otherwise unusual materials submitted as part of the proposal. For color graphics, submit either color originals or color copies. The stated requirements for the number of proposal copies provide for a timely review process because of the large number of technical reviewers. Facsimile transmissions and electronic mail submission of full proposals will not be accepted.

Required Elements

All recipients are to closely follow the instructions and requirements in the preparation of the standard NOAA Application Forms and Kit requirements listed in Part II: Further Supplementary Information, paragraph (10) of this Document. Each proposal must also include the following seven elements:

(1) Signed summary title page: The title page should be signed by the Principal Investigator (PI) and the institutional representative. The Summary Title page identifies the project's title starting with the acronym N-GOMEX 2000, a short title (<50 characters), and the lead PI's name and affiliation, complete address, phone, FAX, and E-mail information. The requested budget for each fiscal year should be included on the Summary Title page. Multi-institution proposals must include signed Summary Title pages from each institution.

(2) One-page abstract/project summary: The Project Summary (Abstract) Form, which is to be submitted at time of application, shall include an introduction of the problem, rationale, scientific objectives and/or hypotheses to be tested, and a brief summary of work to be completed. The prescribed COP format for the Project Summary Form can be found on the COP Internet site under the COP Grants Support Section.

The summary should appear on a separate page, headed with the proposal title, institution(s), investigator(s), total proposed cost, and budget period. It should be written in the third person. The summary is used to help compare proposals quickly and allows the respondents to summarize these key points in their own words.

(3) Statement of work/project description: The proposed project must be completely described, including identification of the problem, scientific objectives, proposed methodology, relevance to the program goals, and its scientific priorities. The project description section (including Relevant Results from Prior Support) should not exceed 15 pages. Page limits are inclusive of figures and other visual materials, but exclusive of references and milestone chart.

Project management should be clearly identified with a description of the functions of each PI within a team. NOAA has specific requirements that environmental data be submitted to the National Oceanographic Data Center. It is important to provide a full scientific justification for the research; do not simply

reiterate justifications presented in this document. This section should also include:

(a) The objective for the period of proposed work and its expected significance;

(b) The relation to the present state of knowledge in the field and relation to previous work and work in progress by the proposing principal investigator(s);

(c) A discussion of how the proposed project lends value to the program goals, and

(d) Potential coordination with other investigators.

(e) References cited: Reference information is required. Each reference must include the name(s) of all authors in the same sequence in which they appear in the publications, the article title, volume number, page numbers, and year of publications. While there is no established page limitation, this section should include bibliographic citations only and should not be used to provide parenthetical information outside of the 15-page project description.

(4) Milestone chart: Time lines of major tasks covering the duration of the proposed project, up to 36 months, if proposing a 3-year project.

(5) Budget: At time of proposal submission, all applicants shall submit the Standard Form, SF-424 (Rev 7-97), “Application for Federal Assistance”, to indicate the total amount of funding proposed for the whole project period. In lieu of the Standard Form 424A, Budget Information (Non-Construction), at time of original application, all proposers are required to submit a COP Summary Proposal Budget Form for each fiscal year increment. Multi-institution proposals must include budget forms from each institution.

Use of this budget form will provide for a detailed annual budget and the level of detail required by the COP program staff to evaluate the effort to be invested by investigators and staff on a specific project. The COP budget form is compatible with forms in use by other agencies that participate in joint projects with COP; and can be found on the COP home page under COP Grants Support, Part D.

All applicants shall include a budget narrative/justification that supports all proposed budget object class categories. The program office will review the proposed budgets to determine the necessity and adequacy of proposed costs for accomplishing the objectives of the proposed grant. Ship time needs should be identified in the proposed budget. The SF-424A, Budget Information (Non-Construction) Form, shall be requested from only those recipients subsequently recommended for award.

(6) Biographical sketch: Abbreviated curriculum vitae, two pages per investigator, are sought with each proposal. Include a list of up to five publications most closely related to the proposed project and up to five other significant publications. A list of all persons (including their organizational affiliation), in alphabetical order, who have collaborated on a project, book, article, or paper within the last 48 months should be included. If there are no collaborators, this should be so indicated. Students, post-doctoral associates, and graduate and postgraduate advisors of the PI should also be disclosed. This information is used to help identify potential conflicts of interest or bias in the selection of reviewers.

(7) Proposal format and assembly: Clamp the proposal in the upper left-hand corner, but leave it unbound. Use one inch (2.5 cm) margins at the top, bottom, left and right of each page. Use a clear and easily legible type face in standard 12 points size.

Part II: Further Supplementary Information

(1) Program authorities: For a list of all program authorities for the Coastal Ocean Program, see COP's General Grant Administration Terms and Conditions annual Document in the Federal Register (64 FR 49162, September 10, 1999) and at the COP home page. Specific Authority cited for this Announcement is 33 U.S.C. 1442.

(2) Catalog of Federal Domestic Assistance Number: 11.478 Coastal Ocean Program.

(3) Program description: For complete COP program descriptions, see the annual COP General Document (64 FR 49162, September 10, 1999).

(4) Funding availability: Funding is contingent upon the availability of Federal appropriations. It is anticipated that up to $600,000 per fiscal year will be available for supporting studies proposed by submissions to this announcement. The priorities for these funds are stated earlier in this Document.

If an application is selected for funding, NOAA has no obligation to provide any additional prospective funding in connection with that award in subsequent years. Renewal of an award to increase funding or extend the period of performance is based on satisfactory performance and is at the total discretion of the funding agency.

Publication of this document does not obligate the Coastal Ocean Program to any specific award or to any part of the entire amount of funds available. Recipients and subrecipients are subject to all Federal laws and agency policies, regulations, and procedures applicable to Federal financial assistance awards.

(5) Matching requirements: None.

(6) Type of funding instrument: Project Grants for non-Federal applicants; interagency transfer agreements or other appropriate mechanisms other than project grants or cooperative agreements for Federal applicants.

(7) Eligibility criteria: For complete eligibility criteria for the Coastal Ocean Program, see COP's General Grant Administration Terms and Conditions annual document in the Federal Register (64 FR 49162, September 10, 1999) and at the COP home page. Proposals deemed acceptable from Federal researchers will be funded through a mechanism other than a grant or cooperative agreement where legal authority allows for such funding. Non-NOAA Federal applicants are required to submit certification or documentation which clearly shows that they can receive funds from the Department of Commerce (DOC) for research (i.e., legal authority exists allowing the transfer of funds from DOC to the non-NOAA Federal applicant's agency).

(8) Award period: Full Proposals should cover a project period of up to 3 years, with a start date of July 1, 2000. Multi-year project period funding may be funded incrementally on an annual basis; but once awarded, multi-year projects will not compete for funding in subsequent years. Each award shall require a Statement of Work that can be easily separated into annual increments of meaningful work which represent solid accomplishments if prospective funding is not made available, or is discontinued.

(9) Indirect costs: If indirect costs are proposed, the following statement applies: The total dollar amount of the indirect costs proposed in an application must not exceed the indirect cost rate negotiated and approved by a cognizant Federal agency prior to the proposed effective date of the award.

(l0) Application forms: For complete information on application forms for the Coastal Ocean Program, see COP's General Grant Administration Terms and Conditions annual Document in the Federal Register (64 FR 49162, September 10, 1999); the COP home page; and the information given earlier in this Document under Required Elements, paragraph (5) Budget.

(11) Project funding priorities: For description of project funding priorities, see COP's General Grant Administration Terms and Conditions annual notification in the Federal Register (64 FR 49162, September 10, 1999) and at the COP home page.

(12) Evaluation criteria: For complete information on evaluation criteria, see COP's General Grant Administration Terms and Conditions annual Document in the Federal Register (64 FR 49162, September 10, 1999) and at the COP home page.

(13) Selection procedures: For complete information on selection procedures, see COP's General Grant Administration Terms and Conditions annual Document in the Federal Register (64 FR 49162, September 10, 1999) and at the COP home page. All proposals received under this specific Document will be evaluated and ranked individually in accordance with the assigned weights of the above evaluation criteria by independent peer mail review.

(14) Other requirements: For a complete description of other requirements, see COP's General Grant Administration Terms and Conditions annual Document in the Federal Register (64 FR 49162, September 10, 1999) and at the COP home page.

(15) Pursuant to Executive Orders 12876, 12900 and 13021, the Department of Commerce, National Oceanic and Atmospheric Administration (DOC/NOAA) is strongly committed to broadening the participation of Historically Black Colleges and Universities, Hispanic Serving Institutions and Tribal Colleges and Universities in its educational and research programs. The DOC/NOAA vision, mission and goals are to achieve full participation by Minority Serving Institutions (MSI) in order to advance the development of human potential, to strengthen the nation's capacity to provide high-quality education, and to increase opportunities for MSIs to participate in, and benefit from, Federal Financial Assistance programs. DOC/NOAA encourages all applicants to include meaningful participation of MSIs.

(16) Applicants are hereby notified that they are encouraged, to the greatest practicable extent, to purchase

American-made equipment and products with funding provided under this program.

(17) This notification involves collection-of-information requirements subject to the Paperwork Reduction Act. The use of Standard Forms 424, 424A, 424B, and SF-LLL have been approved by the Office of Management and Budget (OMB) under control numbers 0348-0043, 0348-0044, 0348-0040 and 0348-0046.

The COP Grants Application Package has been approved by OMB under control number 0648-0384 and includes the following information collections: a Summary Proposal Budget Form, a Project Summary Form, standardized formats for the Annual Performance Report and the Final Report, and the submission of up to 20 copies of proposals. Copies of these forms and formats can be found on the COP Home Page under Grants Support section, Part F.

Notwithstanding any other provision of law, no person is required to respond to, nor shall any person be subject to a penalty for failure to comply with a collection of information subject to the requirements of the Paperwork Reduction Act, unless that collection displays a currently valid OMB control number.

Dated: March 13, 2000.
Ted I. Lillestolen,
Deputy Assistant Administrator, National Ocean Service, National Oceanic and Atmospheric Administration.

[FR Doc. 00-6980 Filed 3-20-00; 8:45 am]

BILLING CODE 3510-22-F